DEPARTMENT OF HOMELAND SECURITY

Federal Emergency Management Agency

[Docket ID FEMA-2013-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of January 16, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

Community | Community map repository address
Tuscaloosa County, Alabama, and Incorporated Areas
Docket No.: FEMA-B-1267
City of Northport | City Hall, 3500 McFarland Boulevard, Northport, AL 35476.
City of Tuscaloosa | City Hall, 2201 University Boulevard, Tuscaloosa, AL 35401.
Town of Brookwood | Town Hall, 15689 Highway 216, Brookwood, AL 35444.
Town of Coaling | Town Hall, 11281 Stephens Loop Road, Coaling, AL 35449.
Town of Coker | Town Hall, 11549 Eisenhower Drive, Coker, AL 35452.
Town of Lake View | Town Hall, 21289 Phyllis Drive, Lake View, AL 35111.
Town of Moundville | Town Hall, 410 Market Street, Moundville, AL 35474.
Town of Vance | Town Hall, 18336 Highway 11 North, Vance, AL 35490.
Town of Woodstock | Town Hall, 28513 Highway 5, Woodstock, AL 35188.
Unincorporated Areas of Tuscaloosa County | Tuscaloosa County Public Works Department, 2810 35th Street, Tuscaloosa, AL 35401.
Yuma County, Arizona, and Incorporated Areas
Docket No.: FEMA-B-1266
City of Yuma | Community Planning Department, 1 City Plaza, Yuma, AZ 85364.
Town of Wellton | Town Hall, 28634 Oakland Avenue, Wellton, AZ 85356.
Unincorporated Areas of Yuma County | Yuma County Department of Development Services, 2351 West 26th Street, Yuma, AZ 85364.
Franklin County, Indiana, and Incorporated Areas
Docket No.: FEMA-B-1272
Town of Brookville | Franklin County Government Center, Area Planning Office, 1010 Franklin Avenue, Brookville, IN 47012.
Town of Cedar Grove | Franklin County Government Center, Area Planning Office, 1010 Franklin Avenue, Brookville, IN 47012.
Unincorporated Areas of Franklin County | Franklin County Government Center, Area Planning Office, 1010 Franklin Avenue, Brookville, IN 47012.
Miami County, Kansas, and Incorporated Areas
Docket No.: FEMA-B-1270
City of Fontana | City Hall, 204 East North Street, Fontana, KS 66026.
City of Louisburg | City Hall, 5 South Peoria Street, Suite 105, Louisburg, KS 66053.
City of Osawatomie | City Hall, 439 Main Street, Osawatomie, KS 66064.
City of Paola | City Hall, 19 East Peoria Street, Paola, KS 66071.
Unincorporated Areas of Miami County | Miami County Administration Building, 201 South Pearl Street, Suite 201, Paola, KS 66071.
Orangeburg County, South Carolina, and Incorporated Areas
Docket No.: FEMA-B-1242 and B-1267
City of Orangeburg | Building Inspection Division, 152 Market Street, Orangeburg, SC 29116.
Town of Bowman | Town Hall, 100 Reeseville Road, Bowman, SC 29018.
Town of Branchville | Town Office, 7644 Freedom Road, Branchville, SC 29432.
Town of Elloree | Town Hall, 2719 Cleveland Street, Elloree, SC 29047.
Town of Eutawville | Town Hall, 419 Porcher Avenue, Eutawville, SC 29048.
Town of Holly Hill | Town Hall, 8807 Old State Road, Holly Hill, SC 29059.
Town of Norway | Town Hall, 8438 Savannah Highway, Norway, SC 29113.
Town of Rowesville | Town Hall, 129 Rowes Pump Drive, Rowesville, SC 29133.
Town of Springfield | Town Hall, 1505 Georgia Street, Springfield, SC 29146.
Unincorporated Areas of Orangeburg County | County Administration Building, 1437 Amelia Street, Orangeburg, SC 29116.
Sheridan County, Wyoming, and Incorporated Areas
Docket No.: FEMA-B-1263 and B-1276
City of Sheridan | Department of Public Works, 55 Grinnell Plaza, 3rd Floor, Sheridan, WY 82801.
Town of Clearmont | Sheridan County Public Works Office (Planning and Engineering), 224 South Main Street, Suite B8, Sheridan, WY 82801.
Town of Dayton | Public Works, 608 Broadway, Dayton, WY 82836.
Town of Ranchester | 145 Coffeen Street, Ranchester, WY 82839.
Unincorporated Areas of Sheridan County | Sheridan County Public Works Office (Planning and Engineering), 224 South Main Street, Suite B8, Sheridan, WY 82801.

(Catalog of Federal Domestic Assistance No. 97.022, “Flood Insurance.”)

Dated: July 26, 2013.
Roy E. Wright,
Deputy Associate Administrator for Mitigation, Department of Homeland Security, Federal Emergency Management Agency.

[FR Doc. 2013-19436 Filed 8-9-13; 8:45 am]

BILLING CODE 9110-12-P